DEPARTMENT OF COMMERCE

International Trade Administration

[A-560-803]

Antidumping Order on Extruded Rubber Thread From Indonesia: Revocation of Order

AGENCY: Import Administration, International Trade Administration, Department of Commerce.

ACTION: Notice of Revocation of the Antidumping Duty Order of Extruded Rubber Thread from Indonesia.

SUMMARY: On April 1, 2004, the Department of Commerce (“the Department”) initiated a sunset review of the antidumping duty order on Extruded Rubber Thread from Indonesia (69 FR 17129). Because the domestic interested parties did not participate in this sunset review, the Department is revoking this antidumping duty order.

dates: Effective Date: May 21, 2004.

FOR FURTHER INFORMATION CONTACT: Hilary Sadler, Esq., Office of Policy, Import Administration, International Trade Administration, U.S. Department of Commerce, 14th Street and Constitution Avenue, NW., Washington, DC 20230; telephone: (202) 482-4340.

SUPPLEMENTARY INFORMATION:

The Applicable Statue

The Department's procedures for the conduct of sunset reviews are set forth in Section 751(c) of the Tariff Act of 1930, as amended (the “Act”), and 19 CFR 351.218. Guidance on methodological and analytical issues relevant to the Department's conduct of sunset reviews is set forth in the Department's Policy Bulletin 98:3—Policies regarding the Conduct of Five-Year Sunset Reviews of Antidumping and Countervailing Duty Orders: Policy Bulletin, 63 FR 18871 (April 16, 1998) (“Sunset Policy Bulletin”).

For purposes of this review, the product covered is extruded rubber thread (“ERT”) from Indonesia. ERT is defined as vulcanized rubber thread obtained by extrusion of stable or concentrated natural rubber latex of any cross sectional shape, measuring from 0.18 mm, which is 0.007 inches or 140 gauge, to 1.42 mm, which is 0.056 inch or 18 gauge, in diameter. ERT is currently classified under subheadings 4007.00.00 of the Harmonized Tariff Schedule (“HTS”). Although the HTS subheadings are provided for convenience and customs purposes, the written description of the scope of this order is dispositive.

Background

On May 21, 1999, the Department issued an antidumping duty order on ERT (64 FR 27755). Pursuant to section 751(c) of the Act and 19 CFR part 351, the Department initiated a sunset review of this order by publishing notice of the initiation in the Federal Register 69 FR 17129 (April 1, 2004). In addition, as a courtesy to interested parties, the Department sent letters, via certified and registered mail, to each party listed on the Department's most current service list for this proceeding to inform them of the automatic initiation of a sunset review of this order.

We received no response from the domestic industry by the deadline dates (see 19 CFR 351.218(d)(1)(i)). As a result, the Department determined that no domestic party intends to participate in the sunset review, and on April 20, 2004, we notified the International Trade Commission that we intended to issue a final determination revoking this antidumping duty order.

Determination To Revoke

Pursuant to section 751(c)(3)(A) of the Act and 19 CFR 351.218(d)(1)(iii)(B)(3), if no domestic interested party responds to the notice of initiation, the Department shall issue a final determination, within 90 days after the initiation of the review, revoking the order. Because no domestic interested party filed a notice of intent or substantive response, the Department finds that no domestic interested party is participating in this review, and we are revoking this antidumping duty order effective May 21, 2004, the fifth anniversary of the date of publication in the Federal Register of the order, consistent with 19 CFR 351.222(i)(2)(i).

Effective Date of Revocation

Pursuant to sections 751(c)(3)(A) and 751(d)(2) of the Act, and 19 CFR 351.222(i)(2)(i), the Department will instruct the Customs Service to terminate the suspension of liquidation of the merchandise subject to this order entered, or withdrawn from warehouse, on or after May 21, 2004. Entries of subject merchandise prior to the effective date of revocation will continue to be subject to suspension of liquidation and countervailing duty deposit requirements. The Department will complete any pending administrative reviews of this order and will conduct administrative reviews of subject merchandise entered prior to the effective date of revocation in response to appropriately filed requests for review.

This five-year (“sunset”) review and notice are in accordance with sections 751(c), 752, and 777(i)(1) of the Act.

Dated: June 23, 2004
James J. Jochum,
Assistant Secretary for Import Administration.

[FR Doc. 04-14707 Filed 6-28-04; 8:45 am]

BILLING CODE 3510-DS-P